DEPARTMENT OF EDUCATION

[Docket No.: ED-2020-SCC-0070]

Agency Information Collection Activities; Submission to the Office of Management and Budget for Review and Approval; Comment Request; Fiscal Year 2020 Application for Grants Under the International Research and Studies Program

AGENCY: Office of Postsecondary Education (OPE), Department of Education (ED).

ACTION: Notice.

SUMMARY: In accordance with the Paperwork Reduction Act of 1995, ED is proposing an extension of an existing information collection.

DATES: Interested persons are invited to submit comments on or before June 17, 2025.

ADDRESSES: Written comments and recommendations for proposed information collection requests should be sent within 30 days of publication of this notice to www.reginfo.gov/public/do/PRAMain. Find this particular information collection request by selecting “Department of Education” under “Currently Under Review,” then check “Only Show ICR for Public Comment” checkbox.

FOR FURTHER INFORMATION CONTACT: For specific questions related to collection activities, please contact Cheryl Gibbs, 202-453-5690.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Fiscal Year 2020 Application for Grants under the International Research and Studies Program.

OMB Control Number: 1840-0795.

Type of Review: An extension of an existing information collection.

Respondents/Affected Public: Private Sector.

Total Estimated Number of Annual Responses: 25.

Total Estimated Number of Annual Burden Hours: 5,000.

Abstract: The U.S. Department of Education, International and Foreign Language Education office intends to use this information collection to invite Fiscal Year 2020 grant applications from eligible institutions, public and private agencies, organizations, and individuals who propose to conduct research and studies to improve and strengthen instruction in modern foreign languages, area studies, and other international fields. This information collection is integral to the pre-award phase of our grant-making activities because external peer review panels review the information in grant applications to evaluate the competitive quality in a comparative context. By extension, the collection is also significant because the peer reviewers' evaluations inform which applications are selected for funding. This information collection, which constitutes a potential grantee's approved project for a three-year period, is also necessary for our post-award activities which include annual performance reports, non-competing continuation awards, technical assistance, project monitoring, risk assessment, identifying best practices, and assessing project and program impact.

Dated: May 13, 2020.
Kate Mullan,
PRA Coordinator, Strategic Collections and Clearance Governance and Strategy Division, Office of Chief Data Officer.

[FR Doc. 2020-10603 Filed 5-15-20; 8:45 am]

BILLING CODE 4000-01-P